DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. Patent application 60/762,561: ANTI-BALLISTIC COMPOSITE STRUCTURE FOR ORDNANCE, a thin and lightweight anti-ballistic composite structure capable of stopping a 0.50 caliber armor-piercing bullet. Patent application 11/326,674: IMPROVED EXOTHERMIC ROD IGNITER, a waterproof, non-battery operated rod igniter with marked reliability and longer shelf life. Patent application 11/229,443: DRIFT TUBE AMPLIFIER, amplifies extremely low current signals generated by extremely high input impedance sources. Patent application 11/314,884: MULTI-FUNCTIONAL TACTICAL CABLE REEL, a reel that allows for storage and deployment of fragile fiber optic cable with minimal man-power while protecting it from scraping and kinking. Patent application 11/254,123: TWIN MACHINE GUN MOUNT, a mount that allows for dual M240 machine guns in a single firing position. Patent application 11/392,895: QUICK RELEASE SIGHT ADAPTER, used to attach a commercial red dot sight and adjustable iron sight to a scope ring style mount and allows for quick release and exchange using a spring loaded ramped blade.

ADDRESSES: Requests for copies of the inventions cited should be directed to the Naval Surface Warfare Center, Crane Div, Code 053, Bldg 2, 300 Highway 361, Crane, IN 47522-5001.

FOR FURTHER INFORMATION CONTACT: Mr. Brian Bailey, Naval Surface Warfare Center, Crane Div, Code 053, Bldg 2, 300 Highway 361, Crane, IN 47522-5001, telephone 812-854-1865. To download an application for license, see: http://www.crane.navy.mil/newscommunity/techtrans_CranePatents.asp.

(Authority: 35 U.S.C. 207, 37 CFR part 404)

Dated: April 18, 2006.
Eric McDonald,
Lieutenant Commander, Judge Advocate General's Corps, U.S. Navy, Federal Register Liaison Officer.

[FR Doc. E6-6416 Filed 4-27-06; 8:45 am]

BILLING CODE 3810-FF-P